DEPARTMENT OF EDUCATION

Office of Elementary and Secondary Education; Overview Information; William F. Goodling Even Start Family Literacy Programs: Grants for Indian Tribes and Tribal Organizations; Notice Inviting Applications for New Awards for Fiscal Years (FY) 2003 and 2004

Catalog of Federal Domestic Assistance (CFDA) Number: 84.258.

DATES: Applications Available: February 12, 2004.

Deadline for Transmittal of Applications: April 2, 2004.

Eligible Applicants: Federally recognized Indian tribes and tribal organizations. Applicable definitions of the terms “Indian tribe” and “tribal organization” are in section 4 of the Indian Self-Determination and Education Assistance Act, 25 U.S.C. 450b.

Estimated Available Funds: $4,370,000. This is the combined estimate from both FY 2003 and FY 2004 funds. We are inviting applications at this time for new awards for both FY 2003 and for FY 2004 to make the most efficient use of competition resources. The Department may use the funding slate resulting from this competition as the basis for future years' awards.

Estimated Range of Awards: $150,000-$250,000 per year.

Estimated Average Size of Awards: $200,000 per year.

Estimated Number of Awards: 17-29.

Note: The Department is not bound by any estimates in this notice.

Project Period: Up to 48 months.

Full Text of Announcement

I. Funding Opportunity Description

Purpose of Program: The William F. Goodling Even Start Family Literacy Programs (Even Start), including the grants for Indian tribes and tribal organizations, are intended to help break the cycle of poverty and illiteracy by improving the educational opportunities of low-income families by integrating early childhood education, adult literacy or adult basic education, and parenting education into a unified family literacy program for federally recognized Indian tribes and tribal organizations. These programs are implemented through cooperative activities that: Build on high-quality existing community resources to create a new range of educational services for most-in-need families; promote the academic achievement of children and adults; assist children from low-income families to meet challenging State content and student achievement standards; and use instructional programs that are based on scientifically based reading research and on the prevention of reading difficulties for children and adults, to the extent such research is available. A description of the required fifteen program elements for which funds must be used is included in the application package.

Priority: We are establishing this priority for the combined FY 2003 and FY 2004 grant competition and any future awards made on the basis of the funding slate from this competition, in accordance with section 437(d)(1) of the General Education Provisions Act (GEPA).

Absolute Priority: For this competition, this priority is an absolute priority. Under 34 CFR 75.105(c)(3) we consider only applications that meet this priority.

This priority is:

Early Childhood Education Services in a Group Setting

A project must offer some center-based early childhood education services.

The research in early childhood education shows that educational services for young children that are provided in a center are more likely to be intensive and therefore result in significant learning outcomes than non-center based services. The Third National Even Start Evaluation showed that children who participated more intensively in early childhood education scored higher on standardized literacy skills. A center is defined, for the purpose of this competition, as a place where early childhood educational services can be provided to a group of children from multiple households.

Waiver of Proposed Rulemaking: Under the Administrative Procedure Act (5 U.S.C. 553) the Department generally offers interested parties the opportunity to comment on proposed priorities, section 437(d)(1) of GEPA (20 U.S.C. 1232(d)(1)), however, allows the Secretary to exempt from rulemaking requirements rules governing the first grant competition under a new or substantially revised program authority. This is the first competition for this program under the No Child Left Behind Act, Public Law 107-110, and therefore qualifies for this exemption. In order to ensure timely grant awards, the Secretary has decided to forego public comment on the rule in this notice under section 437(d)(1) of GEPA. These rules will apply to the FY 2003 and FY 2004 combined grant competition only.

Program Authority: 20 U.S.C. 6381a(a)(1)(C).

Applicable Regulations: The Education Department General Administrative Regulations (EDGAR) in 34 CFR parts 75, 77, 80, 81, 82, 84, 85, 86, 97, 98, and 99.

Note: The regulations in 34 CFR Part 86 apply to institutions of higher education only.

II. Award Information

Type of Award: Discretionary grant.

Estimated Available Funds: $4,370,000. This is the combined estimate from both FY 2003 and FY 2004 funds. We are inviting applications at this time for new awards for both FY 2003 and for FY 2004 to make the most efficient use of competition resources. The Department may use the funding slate resulting from this competition as the basis for future years' awards.

Estimated Range of Awards: $150,000-$250,000 per year.

Estimated Average Size of Awards: $200,000 per year.

Estimated Number of Awards: 17-29.

Note: The Department is not bound by any estimates in this notice.

Project Period: Up to 48 months.

III. Eligibility Information

1. Eligible Applicants: Federally recognized Indian tribes and tribal organizations. Applicable definitions of the terms “Indian tribe” and “tribal organization” are in section 4 of the Indian Self-Determination and Education Assistance Act, 25 U.S.C. 450b.

2. Cost Sharing or Matching: Cost sharing requirements for these grants are detailed in section 1234(b) of the Elementary and Secondary Education Act of 1965, as amended by the No Child Left Behind Act of 2001 (ESEA).

3. Other: In general, a family is eligible to participate in an Even Start project for Indian tribes and tribal organizations if they qualify under the following requirements: (a) The parent(s) is eligible to participate in adult education and literacy activities under the Adult Education and Family Literacy Act, the parent(s) is within the State's compulsory school attendance age range (in which case a local educational agency must provide or ensure the availability of the basic education component), or the parent(s) is attending secondary school; and (b) the child (or children) is younger than eight years of age. More specific information on family eligibility is contained in section 1236 of the ESEA.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call the Federal Information Relay Service (FIRS) at 1-800-877-8339.

You may also contact ED Pubs at its Web site: http://www.ed.gov/pubs/edpubs.html or you may contact ED Pubs at its e-mail address: edpubs@inet.ed.gov.

If you request an application from ED Pubs, be sure to identify this competition as follows: CFDA number 84.258. You also may obtain a copy of the application package on the Department's website at the following address: http://www.ed.gov/programs/evenstartindian/applicant.html.

Individuals with disabilities may obtain a copy of the application package in an alternative format (e.g., Braille, large print, audiotape, or computer diskette) by contacting the program contact person listed under section VII of this notice.

2. Content and Form of Application Submission: Requirements concerning the content of an application, together with the forms you must submit, are in the application package for this program competition. Page and Appendices Limits: The application narrative (Part III of the application) is where you, the applicant, address the absolute priority and the selection criteria that reviewers use to evaluate your application. In addition, the budget narrative is where you provide an itemized budget breakdown, by project year, for each budget category listed in sections A and B of Budget Form 524. You must limit your application narrative (Part III of the application) to the equivalent of no more than 25 typed pages and limit the budget narrative to the equivalent of no more than 3 typed pages, using the following standards.

• A “page” is 8.5″ × 11″, on one side only, with 1″ margins at the top, bottom, and both sides.

• Double space (no more than three lines per vertical inch) all text in the application and budget narratives, including titles, headings, footnotes, quotations, references, and captions. You may single space information in tables, charts, or graphs, and you may single space the Appendices.

• Use a font that is either 12-point or larger or no smaller than 10 pitch (characters per inch). You may use other point fonts for any tables, charts, graphs, and the Appendices, but those tables, charts, graphs and Appendices should be in a font size that is easily readable by the reviewers of your application.

• Any tables, charts, or graphs are included in the application narrative and budget narrative page limits.

• You must limit the Appendices to the curriculum vitae or position descriptions of no more than 5 people (including key contract personnel and consultants) and endnote citations to no more than 2 pages for the scientifically based reading research upon which your instructional programs are based.

• Other application materials are limited to the specific materials indicated in the application package, and may not include any video or other non-print materials.

• Our reviewers will not read any pages of your application that—

• Exceed the page limits if you apply these standards; or

• Exceed the equivalent of the page limits if you apply other standards.

In addition, our reviewers will not read or view any Appendices or enclosures (including non-print materials such as videotapes or CDs) other than those described in this notice and the application package.

3. Submission Dates and Times:

Applications Available: February 12, 2004.

Deadline for Transmittal of Applications: April 2, 2004.

The dates and times for the transmittal of applications by mail or by hand (including a courier service or commercial carrier) are in the application package for this program competition.

We do not consider an application that does not comply with the deadline requirements.

4. Intergovernmental Review: This program competition is not subject to Executive Order 12372 and the regulations in 34 CFR part 79.

5. Funding Restrictions: Recipients of an Even Start Indian tribe and tribal organization grant may not use funds awarded under this competition for the indirect costs of a project, or claim indirect costs as part of the local project share. (section 1234(b)(3) of the ESEA.) Grant recipients may request that the Secretary waive this requirement, however. To obtain a waiver, a recipient must demonstrate to the Secretary's satisfaction that the recipient otherwise would not be able to participate in the Even Start program. (section 1234(b)(2) of the ESEA.) Information about requesting a waiver is in the application package. We reference regulations outlining additional funding restrictions in the Applicable Regulations section of this notice.

6. Other Submission Requirements: Instructions and requirements for the transmittal of applications by mail or by hand (including a courier service or commercial carrier) are in the application package for this competition. Application Procedures:

Note: Some of the procedures in these instructions for transmitting applications differ from those in EDGAR (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. Even Start grants for Indian Tribes and Tribal Organizations—CFDA Number: 84.258 is one of the programs included in the pilot project. If you are an applicant under Even Start grants for Indian Tribes and Tribal Organizations, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you elect to participate in the e-Application pilot for Even Start grants for Indian Tribes and Tribal Organizations and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed in section VII of this notice under For Further Information Contact or (2) the e-GRANTS help desk at 1-888-336-8930.

You may access the electronic grant application for Even Start grants for Indian Tribes and Tribal Organizations at: http://e-grants.ed.gov/.

V. Application Review Information

1. Selection Criteria: The following selection criteria for this competition are in section 75.210 of EDGAR, 34 CFR 75.210. Further information about each of these selection criteria is in the application package. The maximum score for all of these criteria is 100 points. The maximum score for each criterion is indicated in parentheses.

(a) Quality of the project design. (30 points) The Secretary considers the quality of the design of the proposed project. In determining the quality of the design of the proposed project, the Secretary considers the following factors:

(1) The extent to which the design of the proposed project is appropriate to, and will successfully address, the needs of the target population or other identified needs.

(2) The extent to which the design of the proposed project reflects up-to-date knowledge from research and effective practice.

(3) The extent to which the proposed project will establish linkages with other appropriate agencies and organizations providing services to the target population.

(b) Quality of project services. (25 points) The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(1) The extent to which the training or professional development services to be provided by the proposed project are of sufficient quality, intensity, and duration to lead to improvements in practice among the recipients of those services.

(2) The likelihood that the services to be provided by the proposed project will lead to improvements in the achievement of students as measured against rigorous academic standards.

(3) The extent to which the services to be provided by the proposed project involve the collaboration of appropriate partners for maximizing the effectiveness of project services.

(c) Quality of project personnel. (10 points) The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(1) The qualifications, including relevant training and experience, of the project director or principal investigator.

(2) The qualifications, including relevant training and experience, of key project personnel.

(3) The qualifications, including relevant training and experience, of project consultants or subcontractors.

(d) Adequacy of resources. (10 points) The Secretary considers the adequacy of resources for the proposed project. In determining the adequacy of resources for the proposed project, the Secretary considers the following factors:

(1) The adequacy of support, including facilities, equipment, supplies, and other resources, from the applicant organization or the lead applicant organization.

(2) The extent to which the budget is adequate to support the proposed project.

(e) Quality of the management plan. (10 points) The Secretary considers the quality of the management plan for the proposed project. In determining the quality of the management plan for the proposed project, the Secretary considers the following factor:

(1) The adequacy of the management plan to achieve the objectives of the proposed project on time and within budget, including clearly defined responsibilities, timelines, and milestones for accomplishing project tasks.

(f) Quality of project evaluation. (15 points) The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation will provide performance feedback and permit periodic assessment of progress toward achieving intended outcomes.

VI. Award Administration Information

1. Award Notices: If your application is successful, we notify your U.S. Representative and U.S. Senators and send you a Grant Award Notification (GAN). We may also notify you informally.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Government Performance and Results Act (GPRA) directs Federal departments and agencies to improve the effectiveness of their programs by engaging in strategic planning, setting outcome-related goals for programs, and measuring program results against those goals. Program officials must develop performance measures for all of their grant programs to assess their performance and effectiveness. The Department has established a set of indicators to assess the effectiveness of the Even Start program, which Tribal Even Start projects will use to measure increases in the: (1) Percentages and numbers of adults achieving significant learning gains on measures of literacy and mathematics, and percentages and numbers of limited English proficient (LEP) adults who achieve significant learning gains on measures of English language acquisition; (2) percentages and numbers of Even Start school-age parents who earn a high school diploma, and percentages and numbers of Even Start non-school-age parents who earn a high school diploma or a General Equivalency Diploma (GED); and (3) percentages and numbers of Even Start children entering kindergarten who achieve significant learning gains on measures of language development and reading readiness. All grantees will be expected to submit an annual performance report documenting their success in addressing these performance measures.

VII. Agency Contact

FOR FURTHER INFORMATION CONTACT: Doris Sligh, U.S. Department of Education, 400 Maryland Avenue SW., room 3W246, Washington, DC 20202-6132. Telephone: (202) 260-0999, or by e-mail: Doris.Sligh@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: www.gpoaccess.gov/nara/index.html.

Dated: February 6, 2004.
Raymond Simon,
Assistant Secretary for Elementary and Secondary Education.

[FR Doc. 04-3123 Filed 2-11-04; 8:45 am]

BILLING CODE 4000-01-P